DEPARTMENT OF TRANSPORTATION

Office of the Secretary

Termination of Operating Authority of Certain Foreign Air Carriers

AGENCY: Office of the Secretary, Department of Transportation.

ACTION: Order to Show Cause, Docket OST-2001-10416, Order 2001-8-15.

SUMMARY: The Department is inviting comments on its tentative decision to terminate foreign air carrier permit and exemption authority held by eleven foreign air carriers. These foreign air carriers have failed to file revised family assistance plans with the Department and the National Transportation Safety Board, as required by the Foreign Air Carrier Family Support Act of 1997 (Act), 49 U.S.C. 41313, as amended by the Wendell H. Ford Aviation Investment and Reform Act for the 21st Century (AIR-21) (P.L. 106-181; 114 Stat. 61; April 5, 2000). AIR-21 amended 49 U.S.C. 41313 to require, among other things, that foreign air carriers submit to the Department and the National Transportation Safety Board, by October 2, 2000, additional assurances for their respective plans to address the needs of families of passengers involved in aircraft accidents. Since the passing of the October 2, 2000 deadline, the Department has taken repeated measures to notify foreign carriers of their need to file revised plans, and to offer assistance to the affected carriers. Of the 231 foreign air carriers required to file revised plans, 220 have done so. The Department tentatively believes that the continued failure of the remaining eleven to file constitutes grounds for termination of those carriers' authority to serve the United States. Significantly, it is our understanding that all of the nonfiling foreign air carriers are either no longer in business, or no longer conduct any U.S. operations. The eleven foreign air carriers whose authority the Department proposes to terminate are: Aeronautica de Cancun, S.A.; AeroPeru; Air Alliance, Inc.; Empresa Ecuatoriana de Aviacion; Inter-Canadien (1991)/Inter-Canadian (1991); Lineas Aereas Mayas, S.A.; Pacific International Airlines, S.A.; Seagreen Air Transport Limited; Sobelair N.V./S.A.; Sociedad Ecuatoriana de Transportes Aereos, S.A.; and Transportes Aereos Ejecutivos, S.A. de C.V.

DATES: Objections to the issuance of a final order in this proceeding are due September 5, 2001. If objections are filed, answers to objections are due September 12, 2001. Persons filing pleadings should contact the Department's Foreign Air Carrier Licensing Division at the telephone number listed below for a list of persons to be served with objections and answers to objections.

ADDRESS: All documents in this proceeding, with appropriate filing copies, should be filed in Docket OST-2001-10416, addressed to Central Docket Management Facility, U.S. Department of Transportation, Room PL401, 400 Seventh Street, SW., Washington, DC 20590.

FOR FURTHER INFORMATION CONTACT: George Wellington, Foreign Air Carrier Licensing Division, U.S. Department of Transportation, Room 6412, 400 Seventh Street, SW., Washington, DC 20590. Telephone (202) 366-2391.

Dated: August 15, 2001.
Susan McDermott,
Deputy Assistant Secretary for Aviation and International Affairs.

[FR Doc. 01-21001 Filed 8-20-01; 8:45 am]

BILLING CODE 4910-62-P